DEPARTMENT OF THE INTERIOR

Fish and Wildlife Service

[FWS-R3-ES-2010-N121; 30120-1113-0000-F6]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered and threatened species unless a Federal permit allows such activity. The Act requires that we invite public comment before issuing these permits.

DATES: We must receive any written comments on or before July 22, 2010.

ADDRESSES: Send written comments by U.S. mail to the Regional Director, Attn: Peter Fasbender, U.S. Fish and Wildlife Service, Ecological Services, 1 Federal Drive, Fort Snelling, MN 55111-4056; or by electronic mail to permitsR3ES@fws.gov.

FOR FURTHER INFORMATION CONTACT: Peter Fasbender, (612) 713-5343.

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES.

Permit Applications

Permit Application Number: TE805269

Applicant: Daniel A. Soluk, Univ. of South Dakota, Vermillion, SD.

The applicant requests a permit renewal to take (capture and release, collect eggs, larvae, and exuviae) the Hine's Emerald Dragonfly (Somatochlora hineana) in the States of Alabama, Illinois, Michigan, Missouri, Ohio, and Wisconsin. Proposed activities are aimed at enhancement of survival of the species in the wild.

Permit Application Number: TE15027A

Applicant: Stantec Consulting Services, Inc., Columbus, OH.

The applicant requests a permit renewal to take (capture, radio-tag, and release) Indiana bats (Myotis sodalis) and gray bats (Myotis grisescens), and to take Hine's emerald dragonflies, American burying beetles (Nicrophorus americanus), and Mitchell's satyr butterflies (Neonympha mitchellii mitchellii) (capture and release). The applicant would carry out these activities in the States of Illinois, Indiana, Michigan, Missouri, New Jersey, Ohio, Pennsylvania, and Wisconsin, in order to document presence/absence and distribution of the species and to conduct habitat use assessments. Proposed activities are aimed at enhancement of survival of the species in the wild.

Permit Application Number: TE15057A

Applicant: Brent M. McClane, McClane Environmental Services, St. Louis, MO.

The applicant requests a permit renewal to take (capture and release) fat pocketbook (Potamilus capax), Higgin's eye pearlymussel (Lampsilis higginsi), Curtis' pearlymussel (Epioblasma florentina curtisi), pink mucket pearlymussel (Lampsilis abrupta), orangefoot pimpleback (Plethobasus cooperianus), clubshell (Pluerobema clava) white wartyback pearlymussel (Plethobasus cicatricosus), fanshell (Cyprogenia stegaria), and winged mapleleaf (Quadrula fragosa) mussels in the States of Arkansas, Illinois, Indiana, Iowa, Kentucky, Michigan, Minnesota, Missouri, Ohio, West Virginia, and Wisconsin. Proposed activities are for the recovery and enhancement of survival of the species in the wild.

Permit Application Number: TE15061A.

Applicant: CDM Michigan, Inc., Ann Arbor, MI.

The applicant requests a permit to take (capture and release) Northern riffleshell mussels (Epioblasma torulosa rangiana) within the State of Michigan. Proposed activities are to document presence/absence of the species for the enhancement of survival of the species in the wild.

Permit Application Number: TE15075A

Applicant: Fowler Ridge Wind Farm, LLC, Houston, TX.

The applicant requests a permit to take (migrating) Indiana bats within Benton County, Indiana, at the Fowler Ridge wind facility. The salvage study is designed to inform the applicant as to the operating parameters that avoid take of bats and, where impacts occur, the level of impacts at various wind speeds and operating parameters. Information to be gathered will assist with development of methods to enhance the survival of the species in the wild.

Public Comments

We seek public review and comments on these permit applications. Please refer to the permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Dated: June 16, 2010.
Lynn M. Lewis,
Assistant Regional Director, Ecological Services, Region 3.

[FR Doc. 2010-15051 Filed 6-21-10; 8:45 am]

BILLING CODE 4310-55-P